NATIONAL FOUNDATION ON THE ARTS AND THE HUMANITIES

Institute of Museum and Library Services; Cooperative Agreement to Develop and Host the 2006 and 2007 Web-Wise Conferences on Libraries and Museums in the Digital World

AGENCY: Institute of Museum and Library Services (IMLS), NFAH.

ACTION: Notification of availability.

SUMMARY: The Institute of Museum and Library Services (IMLS) is requesting proposals leading to one (1) award of a Cooperative Agreement to develop and host the 2006 and 2007 Web-Wise Conferences on Libraries and Museums in the Digital World in cooperation and with the support of IMLS. The Web-Wise Conference highlights exemplary projects that have used federal funding to improve library and museum programs using technology, and brings together library and museum professionals and national technology experts to discuss issues of mutual concern. Organizations eligible for the award include public and not-for-profit institutions of higher education, all types of libraries, library consortia, all types of public and not-for-profit museums and museum consortia. Federally operated and for-profit museums and libraries are not eligible for IMLS funds. Professional associations serving the museum or library field are eligible. The Cooperative Agreement will be for up to two years; however, funds for the 2007 conference will be released upon successful completion of the 2006 conference, availability of federal funds, and approval of the IMLS Director. The award amount will be up to $400,000. Those interested in receiving the Program Solicitation should see the address and contact information below.

DATES: This Program Solicitation is scheduled for release and posting on the Internet on approximately May 16, 2005. Proposals shall be due on July 18, 2005. Awards will be announced by September 30, 2005.

ADDRESSES: The Program Solicitation will be posted to the Institute's Web site at http://www.imls.gov/webwise on approximately May 16, 2005. Requests for the Program Solicitation may also be addressed to Elaina Norlin, Program Officer, Office of Library Services, Institute of Museum and Library Services, 1800 M Street NW., Room 9317, Washington, DC 20036-5802. Telephone (202) 653-4663; E-mail enorlin@imls.gov.

FOR FURTHER INFORMATION CONTACT: Elaina Norlin, Program Officer, Office of Library Services, Institute of Museum and Library Services, 1800 M Street NW., Room 9317, Washington, DC, 20036-5802. Telephone (202) 653-4663, E-mail enorlin@imls.gov.

Dated: May 10, 2005.
Rebecca Danvers,
Director of Research and Technology.

[FR Doc. 05-9750 Filed 5-16-05; 8:45 am]

BILLING CODE 7036-01-M